DEPARTMENT OF THE INTERIOR

National Park Service

Public Notice; Notice of Request for Continuation of Visitor Services

AGENCY: National Park Service, Interior.

ACTION: Public notice; notice of request for continuation of visitor services.

SUMMARY: Pursuant to the terms of existing concession contracts, public notice is hereby given that the National Park Service has requested a continuation of visitor services for the following expiring concession contract for a period of 1 year until December 31, 2008.

DATES: Effective Date: May 31, 2006.

FOR FURTHER INFORMATION CONTACT: Jo A. Pendry, Concession Program Manager, National Park Service, Washington, DC 20240, Telephone 202/513-7156.

SUPPLEMENTARY INFORMATION: The listed concession authorization expires on December 31, 2007. Under the provisions of the current concession contract and pending the Record of Decision for the National Mall and Memorial Parks Visitor Transportation Study, the National Park Service authorizes the continuation of visitor services for a period not-to-exceed 1 year, or until such time as the Record of Decision is implemented, whichever occurs first, under the terms and conditions of the current concession contract, as amended. The continuation of operations does not affect any rights with respect to selection for award of a new concession contract.

Conc ID Number | Concessioner name | Park
CC-NACC004-89 | Landmark Services Tourmobile, Inc | National Mall and Memorial Parks.

Dated: April 21, 2006.
Alfred J. Poole III,
Acting Assistant Director, Business Services.

[FR Doc. 06-4948 Filed 5-30-06; 8:45 am]

BILLING CODE 4312-53-M